DEPARTMENT OF LABOR

5 CFR Chapter XLII

20 CFR Chapters IV, V, VI, VII, and IX

29 CFR Subtitle A and Chapters II, IV, V, XVII, and XXV

30 CFR Chapter I

41 CFR Chapters 50, 60, and 61

48 CFR Chapter 29

Retrospective Review and Regulatory Flexibility

AGENCY: Office of the Secretary, Labor.

ACTION: Request for information.

SUMMARY: In response to the President's Executive Order 13563 on improving regulation and regulatory review, and Executive Order 13610 on identifying and reducing regulatory burden, the Department of Labor (DOL or the Department) is continuing to review its existing significant regulations that impose large, ongoing burdens on the public. The purpose of this document is to invite public comment on how the Department can improve any of its significant regulations by modernizing, modifying, redesigning, streamlining, expanding, or repealing them.

DATES: Comments must be received on or before February 25, 2015.

ADDRESSES: You may submit comments through the Department's Regulations Portal at http://www.dol.gov/regulations/regreview/.

All comments will be available for public inspection at http://www.dol.gov/regulations/regreview/.

FOR FURTHER INFORMATION CONTACT: Pamela Peters, Program Analyst, Office of the Assistant Secretary for Policy, U.S. Department of Labor, 200 Constitution Avenue NW., Room S-2312, Washington, DC 20210, peters.pamela@dol.gov, (202) 693-5959 (this is not a toll-free number). Individuals with hearing impairments may call 1-800-877-8339 (TTY/TDD).

SUPPLEMENTARY INFORMATION: On January 18, 2011, President Obama issued Executive Order 13563, “Improving Regulation and Regulatory Review.” The Order explains the Administration's goal of creating a regulatory system that protects “public health, welfare, safety, and our environment while promoting economic growth, innovation, competitiveness, and job creation” while using “the best, most innovative, and least burdensome tools to achieve regulatory ends.” The Executive Order required agencies to develop and submit a preliminary plan within 120 days from the January 18 issuance date that explained how each agency reviewed existing significant regulations to identify whether any regulations may be made more effective or less burdensome.

On March 21, 2011, the Department published a Request for Information (RFI) in the Federal Register seeking public input to inform development of its Preliminary Plan and providing an opportunity for the public to identify potential regulations. The Department published its Preliminary Plan for Retrospective Analysis of Existing Rules on May 20, 2011.¹

¹ http://www.whitehouse.gov/files/documents/2011-regulatory-action-plans/DepartmentofLaborPreliminaryRegulatoryReformPlan.pdf.

The Department launched a second interactive Web site on June 2, 2011 and requested public input on certain aspects of the Preliminary Plan.

After receipt and consideration of comments, the Department issued its Plan for Retrospective Analysis of Existing Rules in August 2011.

On May 12, 2012, President Obama issued Executive Order 13610, “Identifying and Reducing Regulatory Burdens.” This Order explained that “it is particularly important for agencies to conduct retrospective analyses of existing rules to examine whether they remain justified and whether they should be modified or streamlined in light of changed circumstances, including the rise of new technologies.” Since August 2011, the Department has issued six updates to its August 2011 Plan.

Request for Comments

The Department recognizes the importance of conducting retrospective review of regulations and is once again seeking public comment on how the Department can increase the effectiveness of its significant regulations while minimizing the burden on regulated entities. The Department recognizes that the regulated community, academia, and the public at large have an understanding of its programs and their implementing regulations, and therefore is requesting public comment on how the Department can prepare workers for better jobs, improve workplace safety and health, promote fair and high-quality work environments, and secure a wide range of benefits for employees and those who are seeking work, all in ways that are more effective and least burdensome.

This request for public input will inform development of the Department's future plans to review its existing significant regulations. To facilitate receipt of the information, the Department has created an Internet portal specifically designed to capture your input and suggestions, http://www.dol.gov/regulations/regreview/. The portal contains a series of questions to gather information on how DOL can best meet the requirements of the Executive Order. The portal will be open to receive comments from January 28, 2015 through February 25, 2015.

Questions for the Public

• What regulations and reporting requirements should be considered for review, modification due to conflicts, inconsistencies, or duplication among the regulations or requirements of the Department's agencies or other federal agencies?

• What reporting requirements and information collections can be streamlined or reduced in frequency while achieving the same level of protections for workers, job-seekers, and retirees? Are there less costly methods, advances in technology, or innovative techniques that can be leveraged toward these purposes?

• What regulatory reforms may require short-term cost increases to the regulated entities while creating longer-term savings, for example, through the adoption of new technologies? What information, data, or technical assistance do regulated entities need in order to better assess these opportunities?

• How should the Department capture information about changes in firm and market behavior in response to a regulation?

• What data or other indicators suggest that the estimated costs and benefits of an existing regulation should be reviewed? What other strategies exist for increasing the flexibility of regulations without limiting important protections?

• What information, data, or other technical assistance do stakeholders require in order to better assess the long-term impact of these reforms upon such protections?

The Department is especially interested in candidates for review for which there is evidence of rapid technological change in a sector that could influence the structure and need for the regulation, whether the chosen regulatory approach will impose large ongoing costs on regulated entities, whether the agency is regulating in an area of significant uncertainty that may be lowered with a future retrospective study, and other similar conditions.

The Department intends the questions on the portal to initiate public dialogue, and does not intend to restrict the issues that may be raised or addressed. The questions were developed with the intent to probe a range of areas, including tools that can be used to prioritize regulations for review; strategies that can be used to increase flexibility of regulations; and measures to ensure scientific integrity of data.

Please note that these questions do not pertain to DOL rulemakings currently open for public comment. To comment on an open rulemaking, please visit regulations.gov and submit comments by the deadline indicated in that rulemaking. Comments that pertain to rulemakings currently open for public comment will not be addressed by the Department in this venue, which focuses on retrospective review.

When addressing the questions in the portal, the Department requests that commenters identify with specificity the regulation or reporting requirement at issue, providing legal citation(s) where available. The Department also requests that submitters provide, in as much detail as possible, an explanation of why a regulation or reporting requirement should be modified, streamlined, expanded, or repealed, as well as specific suggestions of ways the Department can better achieve its regulatory objectives. Whenever possible, please provide empirical evidence and data to support your response.

The Department will consider public comments as we update our plan to review the Department's significant rules. The Department is issuing this request solely to seek useful information as we update our review plan. While responses to this request do not bind the Department to any further actions related to the response, all submissions will be made available to the public on http://www.dol.gov/regulations/regreview/.

Authority: E.O. 13653, 76 FR 3821, Jan. 21, 2011; E.O. 12866, 58 FR 51735, Oct. 4, 1993.

Dated: January 28, 2015.
Christopher P. Lu,
Deputy Secretary.

[FR Doc. 2015-01916 Filed 2-2-15; 8:45 am]

BILLING CODE 4510-23-P